DEPARTMENT OF DEFENSE

Office of the Secretary

Charter for the Defense Advisory Board for Employer Support of the Guard and Reserve

AGENCY: Department of Defense.

ACTION: Federal advisory committee charter.

SUMMARY: Under the provisions of the Federal Advisory Committee Act of 1972, (5 U.S.C. Appendix, as amended), the Sunshine in the Government Act of 1976 (5 U.S.C. 552b, as amended), and 41 CFR 102-3.65, the Department of Defense gives notice that it intends to renew the charter for the Defense Advisory Board for Employer Support of the Guard and Reserve.

FOR FURTHER INFORMATION CONTACT: Jim Freeman, DoD Committee Management Office, 703-601-6128.

SUPPLEMENTARY INFORMATION: The Defense Advisory Board for Employer Support of the Guard and Reserve, pursuant to 41 CFR 102-3.50(d), is a discretionary Federal advisory committee established to provide the Secretary of Defense through the Under Secretary of Defense (Personnel and Readiness) and the Assistant Secretary of Defense (Reserve Affairs), with independent advice concerning matters arising from the military service obligations of members of the National Guard and Reserve and the impact on their civilian employment.

Pursuant to DoD policy, the Assistant Secretary of Defense (Reserve Affairs) is authorized to act upon the Board's advice and recommendations.

The Board shall be comprised of no more than fifteen members appointed by the Secretary of Defense for three-year terms, and their appointments shall be renewed by the Secretary of Defense on an annual basis. No Board member shall serve more than six years on the Board.

The Assistant Secretary of Defense (Reserve Affairs) shall select the Board's Chairperson from the Board membership at large.

Those members who are not full-time or permanent part-time Federal officers or employees, shall be appointed as experts and consultants under the authority of 5 U.S.C. 3109, and serve as Special Government Employees.

Board members, with the exception of travel and per diem for official travel, shall serve without compensation.

The Board shall meet at the call of the Designated Federal Officer, in consultation with the Chairperson and the Assistant Secretary of Defense (Reserve Affairs). The estimated number of Board meetings is two per year.

The Designated Federal Officer, pursuant to DoD policy, shall be a full-time or permanent part-time DoD employee, and shall be appointed in accordance with established DoD policies and procedures. In addition, the Designated Federal Officer and/or Alternate Designated Federal Officer shall attend all Panel and subcommittee meetings.

With DoD approval, the Board shall be authorized to establish subcommittees, as necessary and consistent with its mission. These subcommittees or working groups shall operate under the provisions of the Federal Advisory Committee Act of 1972 (5 U.S.C., Appendix, as amended), the Government in the Sunshine Act of 1976 (5 U.S.C. 552b, as amended), and other appropriate Federal regulations.

Such subcommittees or workgroups shall not work independently of the chartered Board, and shall report all their recommendations and advice to the Board for full deliberation and discussion. Subcommittees or workgroups have no authority to make decisions on behalf of the chartered Board nor can they report directly to the Department of Defense or any Federal officers or employees who are not Board members.

Pursuant to 41 CFR 102-3.105(j) and 102-3.140, the public or interested organizations may submit written statements to the Defense Advisory Board for Employer Support of the Guard and Reserve membership about the committee's mission and functions. Written statements may be submitted at any time or in response to the stated agenda of planned meeting of the Defense Advisory Board for Employer Support of the Guard and Reserve.

All written statements shall be submitted to the Designated Federal Officer for the Defense Advisory Board for Employer Support of the Guard and Reserve, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Defense Advisory Board for Employer Support of the Guard and Reserve. The Designated Federal Officer, at that time, may provide additional guidance on the submission of written statements that are in response to the stated agenda for the planned meeting in question.

Dated: October 16, 2009.
Patricia L. Toppings,
OSD Federal Register Liaison Officer, Department of Defense.

[FR Doc. E9-25705 Filed 10-23-09; 8:45 am]

BILLING CODE 5001-06-P